FEDERAL RESERVE SYSTEM

Change in Bank Control Notices; Formations of, Acquisitions by, and Mergers of Bank Holding Companies; Correction

This notice corrects a notice (FR Doc. 2010-30283) published on page 75173 and 75174 of the issue for Thursday, December 2, 2010.

Under the Federal Reserve Bank of Minneapolis heading, the entry for Rick E. and Kathy A. Skates, both of Polson, Montana, is revised to read as follows:

A. Federal Reserve Bank of Minneapolis (Jacqueline G. King, Community Affairs Officer) 90 Hennepin Avenue, Minneapolis, Minnesota 55480-0291:

1. Rick E. Skates and Kathy A. Skates, both of Polson, Montana, individually, and with Scott Farley and Natalie Farley, both of Enterprise, Alabama; Richard Pedersen, Everett, Washington; and Debbie Denton, Polson, Montana, as a group acting in concert; to acquire and retain voting shares of Flathead Lake Bancorporation, Inc., and thereby indirectly acquire and retain voting shares of First Citizens Bank of Polson, National Association, both of Polson, Montana.

Comments on this application must be received by December 17, 2010.

Board of Governors of the Federal Reserve System, December 7, 2010.
Robert deV. Frierson,
Deputy Secretary of the Board.

[FR Doc. C1-2010-31126 Filed 12-10-10; 8:45 am]

BILLING CODE 6210-01-P